DEPARTMENT OF STATE

[Public Notice No. 3331]

Office of Mexican Affairs; Notice of Receipt of Application for a Presidential Permit for a Conveyor Belt To Be Constructed and Maintained on the Borders of the United States

AGENCY: Department of State.

Notice is hereby given that the Department of State has received an application from Aggregate Products, Incorporated of Salton Sea Beach, California, for a Presidential Permit, pursuant to Executive Order 11423 of August 16, 1968, as amended by Executive Order 12847 of May 17, 1993, seeking authorization to construct a conveyor belt at a site east of the Calexico/Mexicali II Port of Entry linking California and Baja California. The proposed conveyor belt would carry construction aggregate (size-segregated rock and sand) for use in road-paving projects in California. The conveyor belt would be approximately 1,081 feet long and ten feet wide, supported by between 13 and 15 pylons fixed in place. The conveyor belt would only be able to operate in a northerly direction, from Mexico to the U.S. When not in use, it would be stowed and locked entirely on the U.S. side of the border.

As required by E.O. 11423, the Department of State is circulating this application to concerned agencies for comment.

Interested parties may submit comments regarding this application in writing by July 5, 2000 to Mr. David E. Randolph, Coordinator, U.S.-Mexico Border Affairs, Office of Mexican Affairs, WHA/MEX Room 4258, Department of State, Washington, DC 20520. The application and related documents made part of the record to be considered by the Department of State in connection with this application are available for inspection in the Office of Mexican Affairs during normal business hours.

FOR FURTHER INFORMATION CONTACT: David E. Randolph, Coordinator, U.S.-Mexico Border Affairs at the above address, by telephone at (202) 647-8529 or by fax at (202) 647-5752.

Dated: May 30, 2000.
David E. Randolph,
Coordinator, U.S.-Mexico Border Affairs, Department of State.

[FR Doc. 00-14004 Filed 6-2-00; 8:45 am]

BILLING CODE 4710-29-P